DEPARTMENT OF COMMERCE

International Trade Administration

[C-122-858]

Certain Softwood Lumber Products From Canada: Preliminary Results of Countervailing Duty Changed Circumstances Review

AGENCY: Enforcement and Compliance, International Trade Administration, Department of Commerce.

SUMMARY: The U.S. Department of Commerce (Commerce) preliminarily determines that TRAPA Forest Products Ltd. (TRAPA) is the successor-in-interest (SII) to Trans-Pacific Trading Ltd. (Trans-Pacific) in the context of the countervailing duty (CVD) order on certain softwood lumber products (softwood lumber) from Canada. Interested parties are invited to comment on these preliminary results.

DATES: Applicable January 31, 2025.

FOR FURTHER INFORMATION CONTACT: Kristen Johnson, AD/CVD Operations, Office III, Enforcement and Compliance, International Trade Administration, U.S. Department of Commerce, 1401 Constitution Avenue NW, Washington, DC 20230; telephone: (202) 482-4793.

SUPPLEMENTARY INFORMATION:

Background

On January 3, 2018, Commerce published in the Federal Register a CVD order on softwood lumber from Canada.¹ On April 11, 2024, TRAPA filed a request for an expedited CVD changed circumstances review (CCR).² In its CCR Request, TRAPA reported that effective April 8, 2024, Trans-Pacific changed its name to TRAPA, and thus, requested Commerce to conduct a CCR to determine that TRAPA is the SII to Trans-Pacific and assign to TRAPA the cash deposit rate of Trans-Pacific. On July 29, 2024, Commerce published in the Federal Register its notice of initiation of a CVD CCR for TRAPA.³

¹ See Certain Softwood Lumber Products from Canada: Amended Final Affirmative Countervailing Duty Determination and Countervailing Duty Order, 83 FR 347 (January 3, 2018) (Order).

² See TRAPA's Letter, “Request for Expedited Changed Circumstances Review,” dated April 11, 2024 (CCR Request).

³ See Certain Softwood Lumber Products from Canada: Notice of Initiation of Countervailing Duty Changed Circumstances Review, 89 FR 60869 (July 29, 2024).

For a complete description of the events of this CVD CCR, see the Preliminary Decision Memorandum.⁴ A list of topics discussed in the Preliminary Decision Memorandum is included in the appendix to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Results of the Changed Circumstances Review of the Countervailing Duty Order on Certain Softwood Lumber Products from Canada,” dated concurrently with, and hereby adopted by, this notice (Preliminary Decision Memorandum).

Scope of the Order

The product covered by this Order is certain softwood lumber products. For a complete description of the scope of the Order, see the Preliminary Decision Memorandum.

Preliminary Results of CCR

In a CVD CCR, Commerce will make an affirmative successorship finding (i.e., that the respondent company is the same subsidized entity for CVD cash deposit purposes as the predecessor company) where there is no evidence of significant changes in the respondent's: (1) operations; (2) ownership; and (3) corporate and legal structure during the relevant period (i.e., the “look-back window”) that could have affected the nature and extent of the respondent's subsidy levels.⁵ Where Commerce makes an affirmative CVD successorship finding, the successor's merchandise will be entitled to enter under the predecessor's cash deposit rate.

⁵ See Certain Pasta from Turkey: Preliminary Results of Countervailing Duty Changed Circumstances Review, 74 FR 47225 (September 15, 2009).

In accordance with 19 CFR 351.216 and section 751(b) of the Tariff Act of 1930, as amended (the Act), we preliminarily determine that TRAPA is the SII to Trans-Pacific. For the complete SII analysis, see the Preliminary Decision Memorandum. Should the final results remain the same as these preliminary results, we will instruct U.S. Customs and Border Protection to assign entries of subject merchandise exported by TRAPA the CVD cash deposit rate applicable to Trans-Pacific (i.e., 6.74 percent),⁶ effective the date of publication of the final results.

⁶ See Certain Softwood Lumber Products from Canada: Final Results of the Countervailing Duty Administrative Review; 2022, 89 FR 67062, 67065 (August 19, 2024).

Public Comment

Pursuant to 19 CFR 351.309(c), interested parties may submit case briefs no later than 10 days after the date of publication of this notice.⁷ Rebuttal briefs, limited to issues raised in the case briefs, may be filed no later than five days after the date for filing of case briefs.⁸ Interested parties who submit case briefs or rebuttal briefs in this proceeding must submit: (1) a table of contents listing each issue; and (2) a table of authorities.⁹

⁷ Commerce is exercising its discretion under 19 CFR 351.309(c)(1)(ii) to alter the time limit for the filing of case briefs.

⁸ See 19 CFR 351.309(d); see also Administrative Protective Order, Service, and Other Procedures in Antidumping and Countervailing Duty Proceedings, 88 FR 67069, 67077 (September 29, 2023) (APO and Service Final Rule).

⁹ See 19 CFR 351.309(c)(2) and (d)(2).

As provided under 19 CFR 351.309(c)(2) and (d)(2), in prior proceedings we have encouraged interested parties to provide an executive summary of their brief that should be limited to five pages total, including footnotes. In this CCR, we instead request that interested parties provide at the beginning of their briefs a public, executive summary for each issue raised in their briefs.¹⁰ Further, we request that interested parties limit their executive summary of each issue to no more than 450 words, not including citations. We intend to use the executive summaries as the basis of the comment summaries included in the issues and decision memorandum that will accompany the final results of this CCR. We request that interested parties include footnotes for relevant citations in the executive summary of each issue. Note that Commerce has amended certain of its requirements pertaining to the service of documents in 19 CFR 351.303(f).¹¹

¹⁰ We use the term “issue” here to describe an argument that Commerce would normally address in a comment of the Issues and Decision Memorandum.

¹¹ See APO and Service Final Rule.

Pursuant to 19 CFR 351.310(c)(2), interested parties who wish to request a hearing, limited to issues raised in the case and rebuttal briefs, must do so within 1 days of publication of these preliminary results by submitting a written request to the Assistant Secretary for Enforcement and Compliance using ACCESS.¹² Requests should contain: (1) the party's name, address, and telephone number; (2) the number of participants; and (3) a list of the issues to be discussed. If a request for a hearing is made, Commerce will inform parties of the scheduled date for the hearing.¹³ Parties should confirm the date and time of the hearing two days before the scheduled date. Parties are reminded that all briefs and hearing requests must be filed electronically using ACCESS and received successfully in their entirety by 5:00 p.m. Eastern Time on the due date.

¹² Commerce is exercising its discretion under 19 CFR 351.310(c) to alter the time limit for requesting a hearing.

¹³ See 19 CFR 351.310(d).

Final Results of the Changed Circumstances Review

Consistent with 19 CFR 351.216(e), Commerce will issue the final results of this CCR no later than 270 days after the date on which this review was initiated, or within 45 days of publication of these preliminary results if all parties agree to the outcome of the review.

Notification to Interested Parties

These preliminary results and this notice are published in accordance with sections 751(b) and 777(i) of the Act, 19 CFR 351.216, and 19 CFR 351.221(c)(3).

Dated: January 27, 2025.
Abdelali Elouaradia,
Acting Assistant Secretary for Enforcement and Compliance.

Appendix

List of Topics Discussed in the Preliminary Decision Memorandum

I. Summary

II. Background

III. Scope of the Order

IV. Successor-In-Interest Determination

V. Recommendation

[FR Doc. 2025-02048 Filed 1-30-25; 8:45 am]

BILLING CODE 3510-DS-P